DEPARTMENT OF JUSTICE

Drug Enforcement Administration

William Echandy-Ochoa, M.D.; Revocation of Registration

The Deputy Assistant Administrator, Office of Diversion Control, Drug Enforcement Administration (DEA), issued an Order to Show Cause (OTSC), dated June 26, 2000, by certified mail to William Echandy-Ochoa, M.D., (Respondent) notifying him of an opportunity to show cause as to why the DEA should not evoke his DEA Certificate of Registration BE4263206, pursuant to 21 U.S.C. 824(a)(2) and (3), and deny any pending applications for renewal or modification of this registration, pursuant to 21 U.S.C. 823(f). The OTSC stated that Respondent's license to practice medicine in the jurisdiction in which Respondent practices, Puerto Rico, was revoked, and that Respondent had been convicted, in Puerto Rico, of a felony related to the distribution of controlled substances. By letter dated July 19, 2000, Respondent, through counsel, requested a hearing in this matter.

On August 9, 2000, Administrative Law Judge Gail A. Randall issued an Order for Prehearing Statements. On August 10, 2000, the Government filed a Request for Stay of Proceedings and Motion for Summary Disposition. On August 14, 2000, Judge Randall issued an Order allowing Respondent until August 29, 2000, to respond to the Government's motion, and stayed the proceeding pending the resolution of the Government's motion. Following some procedural confusion, the Respondent on October 10, 2000, filed a Motion to Withdraw Allegations to the Honorable Administration, admitting that his license to practice medicine in Puerto Rico was revoked, and requesting that summary disposition be entered in favor of the Government. Judge Randall rendered her Opinion and Recommended Ruling on October 16, 2000, recommending that Respondent's DEA registration be revoked, and any pending renewal applications be denied. On November 21, 2000, Judge Randall transmitted the record of these proceedings to the Office of the Deputy Administrator.

The Administrator has considered the record in its entirety, and pursuant to 21 CFR 1316.67, hereby issues his final order based upon findings of fact and conclusions of law as hereinafter set forth. The Administrator adopts in full the Opinion and Recommended Decision of the Administrative Law Judge.

The DEA does not have the statutory authority pursuant to the Controlled Substances Act to issue or to maintain a registration if the applicant or registrant is without state authority to handle controlled substances in the state in which he or she practices. See 21 U.S.C. 823(f) and 824(a)(3). This prerequisite has been consistently upheld in prior DEA cases. See Saihb S. Halil, M.D., 64 FR 33319 (1999) (noting the rule in a matter involving a registration for Puerto Rico); Diodo Leduc, d/b/a Farmacia Leduc, 51 FR 12751 (1986) and cases cited therein; see also Graham Travers Schuler, M.D., 65 50570 (2000); Romeo J. Perez, M.D., 62 FR 16193 (1997); Demetris A. Green, M.D., 61 FR 60728 (1996); Dominick A. Ricci, M.D., 58 FR 51104 (1993).

In the instant case, the Administrator finds the Respondent affirmatively concedes that, currently, he is not authorized to handle controlled substances in Puerto Rico, and there is no evidence in the record that Respondent maintained a medical practice anywhere else. Furthermore, Respondent affirmatively requests that the Government's Motion for Summary Disposition be granted. Thus, there is no genuine issue of material fact; in fact, there is no dispute at all.

The Administrator concurs with Judge Randall's finding that it is well settled that when there is no question of material fact involved, there is no need for a plenary, administrative hearing. Congress did not intend for administrative agencies to perform meaningless tasks. See Michael G. Dolin, M.D., 65 FR 5661 (2000); Jesus R. Juarez, M.D., 62 FR 14945 (1997); see also Philip E. Kirk, M.D., 48 FR 32887 (1983), aff'd sub nom. Kirk v. Mullen, 749 F.2d 297 (6th Cir. 1984).

Accordingly, the Administrator of the Drug Enforcement Administration, pursuant to the authority vested in him by 21 U.S.C. 823 and 824 and 28 CFR 0.100(b) and 0.104, hereby orders that DEA Certificate of Registration BE4263206, issued to William Echandy-Ochoa, M.D., be, and it hereby is, revoked; and that any pending applications for the renewal or modification of said Certificate be denied. This order is effective November 19, 2001.

Dated: October 10, 2001.
Asa Hutchinson,
Administrator.

[FR Doc. 01-26183 Filed 10-17-01; 8:45 am]

BILLING CODE 4410-09-M